FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than May 15, 2024.

A. Federal Reserve Bank of Chicago (Colette A. Fried, Assistant Vice President) 230 South LaSalle Street, Chicago, Illinois 60690-1414. Comments can also be sent electronically to Comments.applications@chi.frb.org:

1. Kathryn Paige Duncan, John Robert Duncan, D. Todd Duncan, Clara Summers Stokes Sukovaty, Amelia Stokes, Kathryn Duncan, the Summers Stokes Irrevocable Trust, Union Bank & Trust, as trustee, and Clara Summers Stokes Sukovaty, as beneficiary, the Amelia Stokes Irrevocable Trust, Union Bank & Trust, as trustee, and Amelia Stokes, as beneficiary, and a Minor Child's Irrevocable Trust, Union Bank & Trust, as trustee; all of Lincoln, Nebraska; Carol Dianne Thomas and Drew Duncan Thomas, both of Miami, Florida; Brian Sean Thomas, London, United Kingdom; Blake Alan Thomas, Omaha, Nebraska; Ian Duncan Thompson, Los Angeles, California; and Dr. Eric Michael Thompson, Chicago, Illinois; a group acting in concert, to form the Duncan Family Control Group, to retain voting shares of Bank Iowa Corporation, and thereby indirectly retain voting shares of Bank Iowa, both of West Des Moines, Iowa.

B. Federal Reserve Bank of San Francisco (Joseph Cuenco, Assistant Vice President, Formations & Transactions) 101 Market Street, San Francisco, California 94105-1579. Comments can also be sent electronically to sf.fisc.comments.applications@sf.frb.org:

1. Michael Harland Giles, Vancouver, Washington; to acquire voting shares of Pacific West Bancorp, and thereby indirectly acquire voting shares of Pacific West Bank, both of West Linn, Oregon.

Board of Governors of the Federal Reserve System.
Michele Taylor Fennell,
Deputy Associate Secretary of the Board.

[FR Doc. 2024-09296 Filed 4-29-24; 8:45 am]

BILLING CODE 6210-01-P